DEPARTMENT OF ENERGY

Federal Energy Regulatory Commission

[Docket No. RP03-243-000]

Nicole Energy Services, Inc.; Notice of Petition for Declaratory Order

February 11, 2003.

Take notice that on January 24, 2003., Nicole Energy Services, Inc., (Nicole) tendered for filing a petition for a declaratory order to terminate a controversy.

Nicole requests that the Commission issue a declaratory order stating, as a matter of law, (1) that the Natural Gas Tariff of Columbia Gas Transmission Corporation (CGT) requires CGT to install meters at its cost to measure the volume gas received from a shipper; (2) that CGT's Natural Gas Tariff permits, but does not require, shippers of natural gas to install “check meters” to verify the gas volumes measured by CGT's meters; and (3) that CGT can make no downward adjustment to a shipper's gas volumes other than the “retainage” adjustment provided for in CGT's Natural Gas Tariff.

Any person desiring to be heard or to protest said filing should file a motion to intervene or a protest with the Federal Energy Regulatory Commission, 888 First Street, NE., Washington, DC 20426, in accordance with Sections 385.314 or 385.211 of the Commission's Rules and Regulations. All such motions or protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 3, 2003.

Magalie R. Salas,
Secretary.

[FR Doc. 03-3801 Filed 2-14-03; 8:45 am]

BILLING CODE 6717-01-P